DEPARTMENT OF THE INTERIOR

Bureau of Land Management

[CA-330-1420-01]

Notice of intent To amend the Arcata Resource Management Plan

AGENCY: Bureau of Land Management, Department of the Interior.

ACTION: Notice of intent to amend the Arcata Field Office's Arcata Resource Management Plan (RMP); Humboldt County, California.

SUMMARY: Notice is hereby given that it is the intent of the Bureau of Land Management (BLM) to consider amending the Arcata Field Office's Arcata RMP to address the disposal of one parcel of public land in Humboldt County for the purpose of accomplishing one land exchange. A plan amendment and environmental assessment will be prepared to analyze the effects of disposing of one parcel identified in Township 3 South, Range 2 West, Humboldt Base & Meridian, Section 11, NWSE. The land contains approximately 40 acres.

Public Participation

The public is invited to submit comments on this proposal for consideration in the environmental assessment. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

SUPPLEMENTARY INFORMATION: This notice provides for a comment period for a proposed plan amendment. Pursuant to the regulations at 43 CFR 1600, for a period of 30 days from the publication of this notice in the Federal Register, interested parties may submit comments and recommendations regarding the proposed plan amendment to Lynda Roush, Field Manager, Arcata Field Office, 1695 Heindon Road, Arcata, CA 95521. Please reference exchange case file CACA 39912 FD/PT.

FOR FURTHER INFORMATION OR RELATED DOCUMENTS CONTACT: Charlotte Hawks, Realty Specialist, Arcata Field Office, 1695 Heindon Road, Arcata, CA 95521. Telephone: (707) 825-2319.

Daniel E. Averill,
Assistant Field Manager, Arcata.

[FR Doc. 02-1669 Filed 1-22-02; 8:45 am]

BILLING CODE 4310-40-P